DEPARTMENT OF HEALTH AND HUMAN SERVICES

National Institutes of Health

Center for Scientific Review; Amended Notice of Meeting

Notice is hereby given of a change in the meeting of the Synapses, Cytoskeleton and Trafficking Study Section, October 10, 2013, 08:00 a.m. to October 11, 2013, 12:00 p.m., Hotel Monaco Alexandria, 480 King Street, 480 King Street, Alexandria, VA, 22314 which was published in the Federal Register on September 11, 2013, 78 FR 55753.

The meeting will be held on November 18, 2013 from 8:00 a.m. to 7:00 p.m. The meeting location remains the same. The meeting is closed to the public.

Dated: October 29, 2013.
Michelle Trout,
Program Analyst, Office of Federal Advisory Committee Policy.

[FR Doc. 2013-26225 Filed 11-1-13; 8:45 am]

BILLING CODE 4140-01-P